DEPARTMENT OF THE TREASURY

Internal Revenue Service

Quarterly Publication of Individuals, Who Have Chosen To Expatriate

AGENCY: Internal Revenue Service (IRS), Treasury.

ACTION: Notice.

This notice is provided in accordance with IRC section 6039G of the Health Insurance Portability and Accountability Act (HIPAA) of 1996, as amended. This listing contains the name of each individual losing United States citizenship (within the meaning of section 877(a) or 877A) with respect to whom the Secretary received information during the quarter ending June 30, 2023. For purposes of this listing, long-term residents, as defined in section 877(e)(2), are treated as if they were citizens of the United States who lost citizenship.

Last name | First name | Middle name/initials
ADMUSSEN | MATTHEW | SPENCER
AITKEN-FRAPPIER | ISABELLA | ROSALIE
AKANA | MIHO | KAWANA
AL HARBI | ALAA | NAWAF M
AL MUKHTAR | RANA | AHMED
ALBUTT | JONATHAN | E.
ALGAR | GERALDINE | MARIE
ALGAR | WILLIAM | R.
AL-HAMAR | YASMEEN
ALLAL | LINDA | KATHLEEN
ALLAVOINE | MARGARET | ANN
AMAYA | LENIN | TAKASHI
AMORIM | CHRISTOPHER | JOHN
ANAYIOTOS | GEORGE | CONSTANTINOU
ANDERSON | LEONORA | ANN
ANDERSON | ALBERT | RYAN
ANDERSON | ANDREW | BRYCE
ANDERSON | ROBERT | LOUIS
ANDERSON | TERESA | JEAN
ANDERSON | WILLIAM | HALDEN
ANDERSON | ALLISON | MARGARET
ANDO | KOICHI
AOKI | NOZOMI | SARAH
AOKI | YOSHIE
ARAKAWA | MIKE
ARD | EMILY | JANE
ARIMURA | YUMIKO
ASNANI | HIMANSHU
ASSELIN | BRIAN
AVERILL | GAGE
BAARS | HANNY | MARIANNE
BACH | FRANCES | ELLEN
BAERG | GREGORY | KENNETH
BAKER | MICHAEL | JAY
BATALLER | WILLIAM | GARY
BAUDISCH | PATRICK | MARKUS
BAUTISTA | HENRY | PETER
BAUTISTA | TERRY | LYNN
BECKER | MICHAEL | TOM
BEEKMAN | WILLEM | J.
BEGIN | CAROLYNE | NICOLE
BEHNKE | PAULINE | ANN
BELIARD | PATRICE | ERIC PASCAL
BENINO | CONCETTINA
BENNER | SANDRA | M.
BENNETT | DOMINIQUE | MARIE
BENNETT | KELLY | BRIAN
BERARDI | SAMANTHA | ROSARIA
BERESFORD | NIGEL | EDWARD
BERETTA | TROY | DEAN
BERG | MICHELLE | LYNN
BERGER | DANIEL | MICHAEL
BERNARD DE SAINT AFFRIQUE | LOUIS | ANTOINE HERVE ARNAULD
BERNOTAS | CHRISTOPHER | JOSEPH
BERTCH | BARBARA | ANN
BERTRAM | BENJAMIN | GREGORY
BEYMER | CHARLES | JOSEPH
BHAYANI | AMIT
BINER | ANNA | FIONA
BISHOP-PFUNDTI | DONNA | ELIZABETH
BLACKER | SUSANN | MARIE
BLAFF | MIRINHA | S.
BLAIR | DEREK
BLANCHARD | KWAN-YIN | FRANCES
BLANCKAERT | PIETER | WIM C
BLATTER | ALBERT | JOSEF
BLITVIC | NATASA
BOCK | EMILE | OLIVIER
BOEFFARD | PHILIP | ALAIN
BOIX | VIRGINIE | MADELEINE
BONNELL | CLIFFORD | JAMES
BOOCOCK | DAVID
BOSCHET | RODOLPHE | THIERRY
BOYD | RONA
BRABERS | GREGORIUS | WILLIAM ANTONIUS JOHANNES
BRACEWELL | HANNAH | LOUISE
BRATT | VALERY | G.
BRENNAN | COLLEEN | PATRICE
BRENNINKMEYER | GABRIELLE
BROCKWELL | PAMELA | AUDREY
BROCKWELL | PETER | JOHN
BROOKS | PHILIPPA | MARGARET MARY
BROWN | ALEXANDER | FREDERIC
BROWN | PHILIPPA | SYLVIA
BRUCE | DUNCAN | ALEXANDER
BRUNET | HERVE | RENE
BRUTTO | MARY | ANNE
BRUTTO | ROSEMARY | JANET
BRYANT | MAEVE | MARTINA
BRYANT | MARTIN | JAMES
BUTLER | MARGARET | J.
BYDELEY | DAVID | KENNETH
BYRNE | ANDREW | DAVID
BYRNE | COLIN | MICHAEL
CABRAL | SUSANA | MARIA
CAMERON | ALISON | MARY
CAMERON | ANDREW | MICHAEL
CAMERON | ALEXANDRE | IAN
CARADONNA | NANCY
CARDOTT | RUSSEL | BERT
CARIGNAN | MARC | A.
CARNEY | LOIS | ANN
CARPENTER | ELAINE | STEPHANIE
CASSELL | MICHAEL | JOHN
CHAN | KA | YAN
CHANDRAN | ULLATIL | SARAT
CHANG | YUKO
CHANG | ERIC
CHAO | CHARLES | GUOWEI
CHAPMAN | YUKA
CHAPMAN | GEORGINA | TAMARA
CHEN | TE-YU
CHEN | ZHENQI
CHEUNG | LAI | PING
CHEUNG | TERESA | K.
CHIRAPHASO | NISAGORN
CHO | KYUNG | HEE
CHUMACHENCO | ANA | ELIZABETH
CHUN | KYOUNG | YONG
CHUPRYNENKO | IRYNA | A.
CLARK | DAVID | RAY
CLARKE | STEPHANIE | ANNE
COELHO | LUCIANA | SPENGLER
COELHO | LUIZA | S.
COGER | JOSHUA | REAGAN
CONCHA NEME | DAVID | EDUARDO
CONDON | ALEXANDRA
COOK | TIMOTHY
COOPER | HANNAH | NOELLE
CORTES LEFRANC | ALEJANDRO
COSTAGLI | PAOLO
COSTELLO | MARJORIE | POUGET
CRAIG | LAURA | BETH
CRAN | ALISON | JANE
CRITCHFIELD | EMILY | CAROLYN
CROTEAU | JEAN | FRANCOIS
CROYSDILL | JOHN | HARWOOD
CUMMING | ROBERT | JAMES
DALAL | PARAG | SHASHIKANT
DANIELS | PATRICK
DANNHEISSER | MAX | EDWARD
DART | JUSTIN | MC PHERSON
DART | WILAWAN
DASHAWETZ | KATHERINE
DATZ | HEATHER | LYNN
DAVID | LAURIE | DIANE
DAWN | ARIA
DE GELDER | SYLVIAN | ANTONIN
DE GIROLAMO | CARLO
DE JONCH | ROBERT | PIER
DE RUIJTER | EVA | MARIA DYMPHNA
DEARING | JUDITH | ANN
DEN BREEKER | MATTHEW | CRAIG
DESNOYERS | FANNY | SUZANNE L
DEUTSCH | NELLY
DEVERS | CATHLEEN | TINA
DIJKMAN | WENDY | JEANNE
DING | QIANG
DING | CHUNHUA
DINNIWELL | ALAN | ROBERT
DOHM | FAITH | ANNE
DOUGLAS | CHARLOTTE | ASHLEY
DOUGLAS | JAMES | MALCOLM
DOWDESWELL | MARCUS | PAUL
DOYEN | ANDREA | MAUREEN
DOYLE | LEONARD | JOHN
DROGHINI | GARY | RICHARD
DUMON | GISLAINE | ALINE
DWYER | LAURA | E.
DYMKOWSKI | CHRISTINE
EDRI | DVIR
EGAN | MICHAEL | JOSEPH
EICHENBERGER | RENE | PIERRE
ELLIOTT-GORDO | ELIZABETH | M.
ENKERLI | LENA | REBEKKA
ENNING | DENNIS | RICHARD
ERFTEMEIJER | LUCAS | PAULUS
ESTELLE | ABIGAIL | ELISABETH
ETCHARREN | MARIA | ELENA
FAGERBLAD | PATRICK | ULF ANDREAS
FAN | ADRIAN | KA CHEONG
FARRELL | DAVID | ROGERS
FARROW | BRADLEY | ROBIN
FEHR | MICHELE
FERNANDEZ DEL VALLE | MARIA
FERNBACK | ANNE | KATHLEEN
FICIUR | BRIAN | CRAIG
FILORIO | PETER
FITZPATRICK | MAIREAD | BRIDGET
FIX | THOMAS | JACOB HOLLIFIELD
FOLINSBEE | ROBERT | IAN
FONG III | MANUEL | CHRISTIAN QUI
FORDE | MATTHEW | PATRICK
FORSYTHE | TODD | STUART
FOUCHET-NAHAS | JEANNINE | MARIE
FOX | TIMOTHY | STEPHEN
FRANKEL | JORDAN | BRADLEY
FRETZ | TERRY | LYNN
FRITZENWALDER | JENS
FUKUOKA | YOSHIHIRO
FUKUSHIMA | SHOJI
FUKUYAMA | KOZO
GALLAGHER | THOMAS | MARTIN
GAN | ZHAOXU
GANNON | PHILIP | CHARLES
GARCIA-GARCIA | MARIA | J.
GARDINER | BETH | ANN
GARDNER | HENRY | JAMES
GARNIER | ARNAUD | PIERRE
GAUGER | DEREK | KAZAN
GAUL | MATTHEW
GAYLOR | JACK | ALEXANDER
GEISINGER | ESTELLE | CAROLINE
GELIN | RENAUD | FRANCOIS HENRI
GEORGE | TIMOTHY | JOHN
GIANGASPRO | ADELAIDE | ELENA
GIBSON | YUKI | AOI
GIESEN | PETER | JOHANNES
GIGNAC | MARIE | SUZANNE
GILBERT | ANDREW | JAMES
GIRARD | JULIEN | JEAN ROBERT
GLARDON | XAVIER
GNUECHTEL | GABRIELE | INGE
GOFMAN | PAULINA
GOLD | CHAD | MICHAEL
GOLDBLATT | LINDA | SUSAN
GOLDSTON BLUMENFELD | JILL | ANN
GONSALVES | AYESHA | M.
GONSALVES | MARK | R.
GONTHIER | VIDAN
GONZALEZ | YVONNE
GOODALL | SIMON | JONATHAN
GORE | DHANANJAY | A.
GORE | SUJATA | D.
GOWEN | SARAH | FRANCES
GRAHAM | JAMES | ANTHONY
GRAU | ALLEN
GREEN | PAUL | PHILLIP
GRUBER | GILAD | ZIGMUND
GUEDJ | MARGAUX | SHANNON
GUENDISCH | DANIELA
GUENTZEL | RALPH | PETER
GUO | YU
GUO | HUACAI
GUPTA | JAI
GURLE | VALERIE
GUST | BETH | ANNETTE
HACHIUMA | MACHIKO
HAHN | SEUNGYONG
HALL | DAVID | SCOTT
HALLAK | NADINE | ELIAS
HAMABE | YASUYUKI
HAMADA | MIKI
HAMPSHIRE | BRIAN | BENJAMIN
HAN | KYU | HAN
HAN | CHRISTOPHER | TING
HANEDA | HIROHISA
HANEDA | HIROKO
HANNON | FAY | ELIZABETH
HANSSEN | ELKE | ASTRID
HARRIS | GARY | MICHAEL
HARROD | SUSAN | JANE
HASSAN | ZEHRA
HASSON | GARY | LEE
HATT | ANNE-SOLENNE | DANIELE MARIE
HAWKINS | ANTONIA | MARGUERITA CARMELLA
HAZELHOFF | HENK | L.
HEBERT | SERGE | PHILIPPE
HEESTAND | JOHN W | WARREN
HEMMENDINGER | ANNA
HENDERSON | CHERYL | LOUISE
HENDERSON | KAYE | LYNETTE
HENDERSON | KIM | ELLIOT
HENRY | RUSSELL | CHARLESWORTH
HERSELMAN | EILEEN | PATRICIA
HEWETT | ANDREW | SHAUN
HIGHNAM | KENT | MICHAEL
HIKOSAKA | MARY | KAZUKO
HILDER | THOMAS | ERNEST
HILL | JUDY | ANN
HO | SHEN | BEN
HOCHSTRASSER | HEDWIG | ELISABETH
HODKINSON | ROBERT | JAMES
HOFFMAN | CORNELL | ROBERT
HOLLIDAY | JAMES | IAN
HOLT | JOHN | LOFTON
HOLT | WILLIAM | PAUL
HOLT | JOHN | DAVID
HOLT | MIKI | TANAMI
HONG | YOUNG | KI
HONNEFFER | DAVID | JACOB
HOOKER | LISA | DAWN
HORIE | MEIKO
HORIE | MAYUMI
HOSKEN | JEFFREY | ALLEN
HOVEN | REBECCA | JULIET
HSU | CHRISTOPHER | CHUNG-YI
HSU | TING | NING
HSU | TSUNG-PIN
HUANG | CHENMIN
HUBER | KRISTIAN | SCHNEIDER
HUEBNER | CONSTANZE | MARIA
HUH | EUN | MI
HUH | KEE | JUNE
HUH | SANG | HEE
HUNG | HECTOR | CHEUNG HIM
HWANG | KYUNG
ICHINOSE | KOICHI
IGNATOVICH | JAMES | DANIEL
ILIES | REMUS
IMAMURA | ERI | LOUISE
INDIG | DEVON | TILFORD
INMAN | STEPHEN | DOMINIQUE
IP | KENNETH | KA CHUN
IPEK | SEVGI
IRWIN | MICHAEL | JOHN
ISHIHARA-BRITO | REIKO
ISHII | CHIE | ISHII
ISHII | SHINGO
ISHII | SUMIKO
ISHIKAWA | MICHIKO
ITO | AI
ITSCHNER | MIO | LENA
IWAOKA | YOKO
JAMAL | JODIE | ANN
JAMES | SHARON
JAMES | JOHN | HUGH ALEXANDER
JAMES | SUSAN | JANE ALEXANDER
JAMRA | RAMY | MANSOUR ABU
JANG | YI | FENG
JAP | JENS | J.
JARAMILLO GOMEZ | MARIA | FERNANDA
JARDINE-SCOTT | KARINA | MARIA
JARMOUNE | ABRAHAM | JEROME
JARZYNKA | SCOTT | JAMES
JENSEN | CHRIS | ALLEN
JENSEN-STEVENSON | MONIKA | EMMA MINNA
JESZENSZKY | PAUL | S.
JIANG | WENYU
JOHANNESSON | CARYN | MARIE
JOHNSON DOMINICE | ELIZABETH | ANN
JOHNSTON | LISE | DORIS
JOHNSTON | RAYMOND | JOSEPH
JONES | FREDERICK | DOUGLAS
JORDAN | JAROD | MCDONALD
JUNGARO | JO ANN
KAGONA | YOAN | YVES
KAI | FUMIYA
KAMBARA | TAKAO
KAMEYAMA | YUKA
KANAAN | MONA | MAHIR MISBAH
KANG | YEO | WOOL
KANT | OLIVER
KAPTEIN | FRANK
KARJALA-SVENDSEN | JOSHUA
KARP | GEOFFREY | LAURENCE
KAWAMURA | MANAMI
KAZANJIAN | VINCE | GEORGE
KEHOE | JOHN | MARTIN
KELLEY | LORI | ANN
KELLEY | MATTHEW | JAMES
KELLY | BENJAMIN | THOMAS
KERR | DAVID | GEORGE
KERR | MARTIN | PHILIP
KHANDELWAL | SMITA
KIM | JUNGTAE
KIM | JIHO
KIM | SUN | WOO
KIM | SAEJIN | JIN
KIMBER | ANDREW | JOHN
KISHIMOTO | YOSHIMI
KITAMURA | KIYOMI
KLASSEN | LAINI | SIMONE
KLOCKMANN | ARNE
KLUGE | STEVEN | THOMAS
KNAUS | ULLA | G.
KNIGHT | TRACY | ANN
KO | BO | KYUNG
KOBAYASHI | KENT | P.
KOCHMAN | ANN | GARDINER
KOCHMAN | STANLEY | OSCAR
KOERNER | JAN | CHRISTOPH
KOFFMAN | OFRA
KOKKEDEE | WILLEM
KOMPOSCH | PETER | R.
KONDA | HISAKO
KONDA | MAHO
KONDA | SHINICHI
KONDO | MIDORI
KONDO | NORIKO
KOPEL | SUSANNE
KORST | MARK | ROBERT
KOSHIMURA | CHIHIRO
KOSHIMURA | SHO
KOSTOLNIK | CAROL | ANN
KREHM | RACHEL L | LILY GLADYS
KRICKLER | LEANN | LYNN
KRUMDIECK | ERIK | DIETER
KRYSHKA | KAREN | ANN
KUECHLIN | STEPHAN | KURT
KUKIELSKI | PETER | GERALD JAN
KUMAGAI | MIYUKI | ASHLEY
KUNITO | KIYOMI
KURAHASHI | MARIKO
KURDL | MOHAMAD
KUROKAWA | MIKI | CYNTHIA
KUROSAWA | AKIKO
KUROSAWA | YOSHIHARU
KWAK | EUN | SUN
KWOK | LILLIAN | MAGGIE
KWOK | WING | HEI
KWONG | MING | HAY
KYOGOKU | REIKO
LA VALLA | RYUSUKE | TOMINAGA
LAJERET | MARION | YVONNE
LALTOO | ANDREA | BRETT EMMA
LAMBA | GAGAN
LANDELL | BARBARA | JEANETTE
LANGEHENNING | YUMIKO
LANIGAN | EMMA | CLARE
LANNUNG | ELSE | MERETE
LANZ | ROBERT | ADALBERT
LAPLACE | PATRICK | PIERRE
LAROCHETTE | ALAIN | MICHAEL
LAUX | SACHIKO | KAWASE
LEE | YUN | HEE
LEE | KYOUNGHEE
LEE | JOO | YOUNG
LEE | WOOJIN
LEE | WILSON | CHEOW PENG
LEE | JUI YUNG
LEE | SEUNG-JOO
LEFEBVRE | ALYSSA | MARIE
LENTILE | ANDREA | BIANCA
LEONG | MUN | YING
LEUTHOLD | SYLVIA | PHUONG
LEWIS | WILLIAM | RANDALL
LI | CHENG
LI | YUK | KING AVON
LIGTENBERG | SWANICA
LIM | MARY | YULING
LIN | HSIU | LI
LIN | YANG
LINDSEY | JASON | MARCUS
LIPP | ANNA | M.
LITWILLER | DUANE | CURTIS
LIVERMORE | HEIDI | A.
LO | PAUL | CHIT KIT
LOCKE | BRENDA | LOUISE
LONERAGAN | CELIA | M.
LONG | MEGAN | KATHLEEN
LOPES DE FARIA JUNIOR | PAULO
LOW | ERIC | TECK ENG
MA | WENISA | WANYI
MAASKANT | ELLEN
MACIAS | ERIC | M.
MACINTOSH | CATHERINE | ELIZABETH
MACKENZIE | DONALD | ANDREW
MACKENZIE | LEANNE | R.
MAIDEN | ANNA | MICHELLE
MAMMEN | GEORGE
MAMONDEZ | SANTOS
MAMONDEZ | SIMON
MANTZARI | VASILIKI
MARTI | JUAN | MANUEL
MARTIN | TESSA | LOUISE
MARTIN | MAGARET | PAULINE
MARTIN | RICHARD | GEORGE
MASUISHI | CHISAKO
MASUISHI | TETSUYA
MATHIAS | ANN-CATHERINE | GABRIELE
MAUNDER | JOANNA | L.
MAXWELL | JESSE | STEFAN HO
MAXWELL | BETH | ANN
MCADAMS | STEPHEN | EDWARDS
MCCALLUM | JANET | LOUISE
MCCLENNAN | IAN | ANDREW WESLEY
MCCLUNG | DAVID | MICHAEL
MCCONNELL | SARAH
MCCREADY | WENDY
MCDANIEL-MCLEAN | KEYONNA | LYNN
MCDOUGALL | IAN | PAUL
MCGILLICUDDY | SUZANNA | MARIA
MCGLOIN | MARTHA | ANN
MCLARNEY | CATHERINE | JANE
MCNAMARA | JOAN | MARIE
MCVEIGH | SHAWN | PHILIP IKAIKA
MCWHIRTER | SUSAN | ANN
MCWHORTER | JOHN | ROBERT
MEAD | ROBERT | SEMANS
MEIER | MARCO | WERNER
MEINHARDT | MAXIMILLIAN
MELLI | NICOLO
MERGELAS | JAMES | ELIAS
MERLER | AARON | THOMAS
MERRY | MICHELLE | ELIZABETH
METCALF | RICHARD | JOHN
METCALFE | RODERICK | BRYAN
MEYEN | JOHANNES | ARNE
MICHAUD | ROLAND
MIHARA | KOSUKE
MILANO | DANIEL | N.
MILTON | DANIEL | JOSEPH
MISAWA | MIYUKI
MIZUTANI | HIROTAKE
MIZUTANI | MIHO
MOHINANI | SANJAY | TULSIDAS
MOLLOY | JOEY
MOLONEY | ADRIAN | M.
MOORES | JOSIAH M | MARK
MORIMOTO | YUMIKO
MORIMOTO | YOSHIKO
MORIMOTO | KIICHI
MORIN | JULIE
MORROW | IAN | ROGER
MORROW | CRAIG | STEWART
MORSE | JASON | DALE
MOSEN | RACHEL | FAITH
MOSER | THEODORE
MURAKAMI | MASAKI
MURATA | KEIKO
MURPHY | ERIN | LOU ANNE
MURPHY | KATHLEEN | ANN
NAISBITT | LEIGHTON | IAN SLADE
NAKAZATO | ANNA
NAKAZAWA | KEISUKE
NAMMOUR | RICHARD | PAUL
NAVARRO | AARON | LEE
NELSON | KUMI | ASAO
NEMOTO | HIROMORI
NEMOTO | YUKO
NENKOV | IVAYLO | N.
NEUBAUER | THOMAS | ALAN
NEZU | NOBIYUKI
NG | PATRICK | PUI KI
NGUYEN | TAM | THANH
NGUYEN | TAN | NHAT
NIELSEN | KAIA | PERNILLE
NIELSEN | ROBERT | ANDREW
NIKI | RUMI
NOESTELBACHER | MARC
NOGA | SEAN | DAVID
NOMURA | NAOBUMI
NOORBAKHSH | SARAH | M.
NYANDAK | JIGTEN | NORBU
NYBORG | BRIAN
NYSVEEN | RUNE
OBIZHAEVA | ANNA
OGATA | RYOSUKE
OGAWA | YUKINO | O.
OGLOFF | SUSAN | ANN
OH | JUNG | YONG
OHARA | MICHAEL | GREGORY
OKAMOTO | NELSON | YOSHIHIRO
OKAMOTO | REIKO
OKITA | MIDORI
OKU | ISAMU
OKU | KIYOKO
OLKUSZ | GESA
ONG | NEIL | ANTHONY
OPIE | AVIV | GLUSKA
ORD | BRENDA | JEAN
OROZCO | MIGUEL | ANGEL
ORY | JESSE | AARON
OSBOURNE PULSIFER | CHRISTINE | ELIZABETH
OSSEIRAN | SAMMY
OSSEIRAN | DANNY
O'SULLIVAN | KATHRYN | GUTHEIL
OVE | CHRISTOPHER | ROBERT
OZAWA | KEIKO
PADDON | LILIAS-MARY | WREFORD
PARE | PHILIPPE | GEORGES
PARK | JOONGSUK | SUK
PASI | TATIANA | E.
PATE | ALISON | ELIZABETH
PATEL | NEETA
PELKEN | PAUL | MICHAEL
PELLET | MARIE | ANAIS
PERRY | NICOLA | JANE
PETCH | SHARALEE | BETH
PICHLMAYR | RAPHAEL | URS
PIERI | MICHELE
PIGULA | ELAN | MARIE
PILON | MARINUS
PILON-SMITS | ELIZABETH | ANNETJE HENDRIKA
PINK | JANET | LESLEY
PINK | NIGEL | CHRISTOPHER
PITTAWAY | NEIL | MCDONALD
PULIMI | MOHANALATHA
PULSIFER | KIRK | ANDREW
QIAN | LI
QUINN | LINDA | GRACE
RAJ | REETA
RAMADAN | JAD
RANCOURT | MARY | KATHERINE JANET
RATHBONE | BRETT
REBSTOCK | MARY | ELIZABETH
REES-JONES | MILLICENT | ANN
REMEDIOS | ALISON | TERESA
REMEDIOS | IRVIN | JUDE
REYNOLDS | MITCHELL
RICKMANN | JOHANNES | GEORG
RIDDLE | CECILE | ANNE
ROBBINS | MICHAEL | ARTHUS
ROBINS | NICHOLAS | F.
RODORFF | WERNER | JOHANNES MATHIAS
ROGERS | SAMUEL | ALVIN
ROOSENBRAND | MAX
ROPER | CHRISTOPHER | STANLEY
ROSATI | ALEXANDRA | OLIVIA GERREN ANNE
ROSE | SUSAN | LESLIE
ROSE | REBECCA | FRANCES
ROWE | STEVEN | JAY
ROWEN | PIERRE | JAMES
ROZDAY | CHRISTINE | RUTH
RUBIN | MAURY | DANIEL
RUSSELL | HENRY | ALDEN VERPLANCK
RUSSO | TATIANA | SARAH
RYAN | RICHARD | JAMES
RYU | HYE | SUE
SABBAGHA | ELIE | ANTOUN
SABBAGHA | NADINE | ELIE
SAKAMOTO | MITSUO
SANO | KOHAKU
SATO | TAEKO
SCHERER | HARALD | GEORG
SCHINAZI | ISABELLE | CORINNE
SCHLEIFER | MARGARET | ELIZABETH
SCHMID | DOMINIQUE | RACHEL
SCHMID | ENRIQUE
SCHMUTZ | RACHEL | JEAN
SCHNEIDER | PIER | FILIPPO
SCHNEIDER | FRANZ | CHRISTIAN
SCHOCH | PETER
SCHUCK | LARRY | MICHAEL
SCOTT | BARBARA | JEAN
SHAMMAH | HANI | RAMIZ
SHANG | YUNHUA
SHAO | YANG
SHEEHAN | JOHN | DAVID
SHEHADEH | HALIM | ISAM
SHERIDAN | KAREN | MARIE
SHIBATSUJI | YASUHIKO
SHIIMURA | MIKU
SHIMA | MIKKIKO | CLAIRE
SHIN | DONG | GUN
SHIPP | ALEXANDER | FRANK
SHIRABA | KYOKO
SHIRAI | YOSHIKO
SHOEBRIDGE | GAVIN | WILLIAM
SHUM | HEUNG | YEUNG
SILBERMANN | MICHAEL | RUBEN
SKARSTEIN | IAN | PEDER
SLAPE (FKA MORROW) | SHANNON | LISA
SMITH | MICHELLE | PATRICIA
SMITH | TINA | FAY
SONDERMANN | HOLGER
SOROKO | ANNA | MARIA
SOTIN | CHRISTOPHE | JOSEPH
SOUTTER | KARI | JANE
SOWA | JESSICA | ELIZABETH
SPELLINS | GARY | WADE
SPIOTTA | DOROTHY | ANNE
SPRINGATE | JILL | P.
STEENHAUT | MATTHIAS | JO
STERPIN | ROBERT | S.
STEWART | KAREN | JOAN
STOCKEBRAND | MARIANNE | CHARLOTTE
STOHR | EVANGELIA
STOKES | KEVIN | WADE
STOTT | ALAN | TAYLOR
STOTT | CLAIRE | LOUISE
STREIT | KEVIN | ERICH
SUGAMA | TAKAO
SUGAMA | KAZUKO
SUN | YONGCHEN
SUNWOO | LEONARD | YOU
SUPAPANNACHART | RARINTHIP | JUNE
SUSSMAN | AARON | NATHANIEL
SUTHERLAND | LORNA | EILEEN
SUTTON | LOIS | ANN
SUZUKI | HARUMI
SUZUKI | KENJI
SZE | DIANE | CHONG
SZETO | ANITA
SZU | EVAN
TAKADA | WAKA
TAKAHASHI | SHIN
TAKAYAMA | SETSUKO
TAKAYAMA | TAKEHISA
TAKEDA | HINA | M.
TAKEDA | SHOUGO W | WILLIAM
TAKIURA | NAOMI
TAMURA | TOSHIO
TAN | JI | AN
TANAKA | CHISAKO
TANAKA | KATSUYUKI
TANAKA | AKIHIKO
TANAKA | SHOKO
TANG | BRONSON | RYAN
TATKO | THOMAS | A.
TAYLOR | HELENE | MARIE
TAYLOR | BRENDAN | FRANCIS
TAYLOR | ADAM | JAMES
TAYLOR | SALLY | MIRANDA
TE BRAKE-BALDOCK | KAREN | ELIZABETH
TEATHER | DAVID | HENRY
TEGNER | ELISABETH | MONICA
TEH | ADAM | RAY
TERAKI | MICHIAKI
TESHIGAHARA | KIRI
THATCHER | REGAN | COLIN
THEVES | CLAIRE | LAUREN
THIEME | SARAH
THOMMEN | CEDRIC | JULIEN
THORN | CALVIN | MICHAEL
THORN | DAWN | MARIE
THORPE | SARAH | LOUISE
TIAN | TIAN
TIMMINS | STUART | LEE
TOH | HOON | CHEW
TOKUSUMI | AKANE
TOMITA | MAKO
TONDATO | FEDERICA
TOPEL | ISAAC
TOSATTO | LUCA
TOSTMANN | LARS | TOBIAS
TOUMA | JOHN | FAHD
TOWNSEND-TARANTINI | JONI | MEREDITH
TOYAMA | MASAKO
TOYAMA | NOBORU
TREMAIN | MARCUS
TREMBLAY | MARTIN
TROU | CAMILLE | M.
TSCHAN | BENJAMIN
TULBA | STEPHEN
UKRIT | PIYASAK | TEMBUNNAK
UPPALURI | VENKATA | M.
USAMI | ETSUKO
UTSUMI | MARIA
VADHRI | SUBBARAO | VENKATA SURYA
VAJPAYEE | SHALEEN
VAN DE COEVERING | DEMYAN | GROVER
VAN DE MUNT | FRANCISCUS | EDWARD
VAN DIJK | JESSICA | HESTER
VAN DOORN | JAN | REINEIR
VAN TRIGT | BENEDICT | MICHAEL
VARGA | GEOFFREY | E.
VARMA | ANIL
VASICEK | CATHERINE | LYNNE
VERMEULEN | EVA | FREDERIKE
VIKANDER | SVEA | NAHANNI
VIOT | FREDERIQUE
VIVALT | EVA | LOVE
VOHRA | ARVIND | KUMAR
VOHWINKEL | IMELDA | ROSA MARIA
WAEDELED | HEIDI | MIA
WAGNER-OMARA | CLAUDIA | SABINE
WAINWRIGHT | JENNIFER | ALEXANDRA
WAITZMAN | MARIAN | SONIA
WAKABAYASHI | JUDY | FEATHERSTONE
WAKANA | SETSU
WANG | RONGZHENG
WANG | ZHEN
WANG | ALBERT | Y Y
WANG | TA-YU
WANG | CHIH-HUNG
WANG | JIAWEI
WANG | XIN
WARD | SUSAN | LEE
WARRICK | DANIEL | JOSEPH
WATKINS | INGRID | ELFRIEDE
WATKISS | JACQUELINE | MICHELLE
WATSON | CONSTANCE | SUSAN
WATSON | LANI | DARYL
WATTS | CHARLES | JAMES
WATTS | CHARLOTTE | MARY
WATTS | HARRY | ANTHONY
WATTS | IAN | JAMES
WAYNE | ANALEA | MICHAELA
WEATHERWAX | ANTHONY | CHARLES
WEETMAN | HELEN | FRANCES
WEHRLI | PASCAL
WEISS | EDWARD | SOLOMON
WENZEL | ERIC
WERICK | MARY | FRANCES
WESARG | KAJA
WHEELER | FELIX J O
WHITNEY | KAREN | L.
WHYTE | DAVID | SCOTT
WILLIAMS | CAROLE
WILLIAMS | JOHN | HENRY
WILLMS | BENJAMIN | JOHN
WINBERG | ANNA | HELENA
WIXTED | TERESA | MARIE
WOEGINGER | IRENE
WOLFES | ANDREA | MARIA
WONG | KING | TAI
WONG | KENG | CHOONG
WOODLAND | NIGEL | STUART
WOODSTOCK | STEPHANIE | ANN
WRIGHT | JACOB | TYLER
WRONA | LYNSEY | KAREN
WU | XIAONING
WUDRICK | CHARLENE | RUTH
WULTZ | EINAT
WULTZ | EYAL
XIE | YULI
XIONG | SHIJIANG
YACHMENEV | TINA | ISABELLA
YAMADA | MIHO
YAMAGUCHI | YUKINO
YAMANAKA | HITOSHI
YAMANAKA | TERUKO
YAMANAMI | KENJI
YAMASHIRO | MARIKO
YANAKA | YOSHIE
YAU | DARREN | TSAIWAI
YI | ADELINE | MEI CHUN
YI | PATRICK | KONG JUAN
YING | DA
YOO | MIN | JAE
YOSHIDA | YUKA
YOSHIDA | MIO | BELLE
ZABY | CHRISTOPHER | HELMUTH
ZABY | KIM | THUY
ZBINDEN | ERIC | JEAN
ZEIDAN | ROSALIE | CHAHID
ZHENG | LI
ZHOU | HONGCHAO

Dated: July 18, 2023.
Steven B. Levine,
Manager Team 1940, CSDC—Compliance Support, Development & Communications.

[FR Doc. 2023-15540 Filed 7-20-23; 8:45 am]

BILLING CODE 4830-01-P